DEPARTMENT OF STATE

[Public Notice: 12892]

Determination Pursuant to Section 451 of the Foreign Assistance Act of 1961

Pursuant to section 451 of the Foreign Assistance Act of 1961 (the “Act”) (22 U.S.C. 2261) and section 1-100(a)(1) of Executive Order 12163, I hereby authorize, notwithstanding any other provision of law, the use of up to $109,000,000 made available to carry out provisions of the Act (other than the provisions of chapter 1 of part I of the Act) to provide assistance authorized by part I of the Act to support the Armenia-Azerbaijan peace deal.

This Determination and the accompanying Memorandum of Justification shall be promptly reported to the Congress. This Determination shall be published in the Federal Register.

Dated: September 12, 2025.
Marco Rubio,
Secretary of State.

[FR Doc. 2025-23461 Filed 12-18-25; 8:45 am]

BILLING CODE 4710-10-P